DEPARTMENT OF COMMERCE

Foreign-Trade Zones Board

[Docket 42-2008]

Foreign-Trade Zone 272—Lehigh and Northampton Counties, PA; Application for Expansion

An application has been submitted to the Foreign-Trade Zones Board (the Board) by the Lehigh Valley Economic Development Corporation, grantee of Foreign-Trade Zone 272, requesting authority to expand its zone to include an additional site in Northampton County, Pennsylvania. The application was submitted pursuant to the provisions of the FTZ Act, as amended (19 U.S.C. 81a-81u), and the regulations of the Board (15 CFR Part 400). It was formally filed on August 1, 2008.

FTZ 272 was approved by the Board on April 5, 2007 (Board Order 1502, 72 FR 18960, 4/16/07). The general-purpose zone currently consists of the following sites: Site 1 (727 acres)—Lehigh Valley Industrial Park VII, 1805 East 4th Street, Bethlehem; Site 2 (96 acres)—Arcadia East Industrial Park, intersection of Route 512 and Silver Crest Road, East Allen Township; Site 3 (83 acres)—Arcadia West Industrial Park, intersection of I-78 and Route 863, Weisenberg Township; Site 4 (226 acres)—West Hills Business Center, intersection of I-78 and Route 863, Weisenberg Township; Site 5 (399 acres)—Boulder Business Center, intersection of Boulder Drive and Industrial Blvd., Breinigsville (Upper Macungie Township); Site 6 (183 acres)—Lehigh Valley West Corporate Center, intersection of Nestle Way and Schantz Road, Breinigsville (Upper Macungie Township); and Site 7 (213 acres)—within the LogistiCenter, 4950 Hanoverville Road, Bethlehem (Lower Nazareth Township).

The applicant is now requesting to expand the zone to include an additional site in Northampton County: Proposed Site 8 (163 acres)—at the Prologis 33 warehouse facility, located at 3819 and 3850 ProLogis Parkway, Northampton County. The site is owned by ProLogis. The site will provide warehousing and distribution services to area businesses. No specific manufacturing authority is being requested at this time. Such requests would be made to the Board on a case-by-case basis.

In accordance with the Board's regulations, Kathleen Boyce of the FTZ Staff is designated examiner to investigate the application and report to the Board.

Public comment on the application is invited from interested parties. Submissions (original and 3 copies) shall be addressed to the Board's Executive Secretary at the address listed below. The closing period for their receipt is October 7, 2008. Rebuttal comments in response to material submitted during the foregoing period may be submitted during the subsequent 15-day period (to October 22, 2008).

A copy of the application and accompanying exhibits will be available for public inspection at at the Lehigh Valley Economic Development Corporation, 2158 Avenue C, Suite 200, Bethlehem, Pennsylvania 18017; and Office of the Executive Secretary, Foreign-Trade Zones Board, Room 2111, U.S. Department of Commerce, 1401 Constitution Avenue, NW., Washington, DC 20230.

For further information, contact Kathleen Boyce at Kathleen_Boyce@ita.doc.gov or (202) 482-1346.

Dated: August 4, 2008.
Andrew McGilvray,
Executive Secretary .

[FR Doc. E8-18343 Filed 8-7-08; 8:45 am]

BILLING CODE 3510-DS-P